DEPARTMENT OF THE INTERIOR

National Park Service

Meetings; Alaska Region's Subsistence Resource Commission (SRC) Program

AGENCY: National Park Service, Interior.

ACTION: Notice of public meetings for the National Park Service Alaska Region's Subsistence Resource Commission (SRC) program.

SUMMARY: The Gates of the Arctic National Park Subsistence Resource Commission (GAAR SRC) and Denali National Park Subsistence Resource Commission (DENA SRC) will meet to develop and continue work on National Park Service (NPS) subsistence hunting program recommendations and other related subsistence management issues. These meetings are open to the public and will have time allocated for public testimony. The public is welcomed to present written or oral comments to the SRC. This meeting will be recorded and meeting minutes will be available upon request from the park superintendent for public inspection approximately six weeks after each meeting. The NPS SRC program is authorized under Title VIII, Section 808 of the Alaska National Interest Lands Conservation Act, Public Law 96-487, to operate in accordance with the provisions of the Federal Advisory Committee Act.

FOR FURTHER INFORMATION ON THE GAAR SRC MEETING CONTACT: Dave Krupa, Subsistence Manager, Tel. (907) 455-0631, Address: Gates of the Arctic National Park and Preserve, 4175 Geist Road, Fairbanks, AK 99709 or Clarence Summers, Subsistence Manager, Tel. (907) 644-3603.

GAAR SRC Meeting Dates and Location: The GAAR SRC meeting will be held on Wednesday, April 15, and Thursday, April 16, 2009, from 9 a.m. to 5 p.m. at the Anaktuvuk Pass Community Hall, Anaktuvuk Pass, AK.

FOR FURTHER INFORMATION ON THE DENA SRC MEETING CONTACT: Amy Craver, Subsistence Manager, Tel. (907) 683-9544, Address: Denali National Park and Preserve, P.O. Box 9, Denali Park, AK 99755 or Clarence Summers, Subsistence Manager, Tel. (907) 644-3603.

DENA SRC Meeting Date and Location: The DENA SRC meeting will be held on Thursday, April 30, 2009, from 9 a.m. to 5 p.m. at the Denali Dome Home B & B in Healy, AK.

The proposed meeting agenda for each meeting includes the following:

1. Call to order

2. SRC Roll Call and Confirmation of Quorum

3. SRC Chair and Superintendent's Welcome and Introductions

4. Approval of Minutes from Last SRC Meeting

5. Review and Approve Agenda

6. Status of SRC Membership and Charter

7. SRC Member Reports

8. Park Subsistence Manager Report

9. National Park Service Staff Reports

a. Resource Management Report

b. Ranger Division Update.

c. Wildlife Biologist Report—Status of Wildlife Surveys

d. Subsistence Uses of Horns, Antlers, Bones and Plants EA Update

10. Federal Subsistence Board Update

11. Alaska Board of Game Update

12. Old Business

13. New Business

14. Public and other Agency Comments.

15. SRC Work/Training Session

16. Set Time and Place for next SRC Meeting

17. Adjournment

SUPPLEMENTARY INFORMATION: SRC meeting location and date may need to be changed based on weather or local circumstances. If the meeting date and location are changed, a notice will be published in local newspapers and announced on local radio stations prior to the meeting date. The meeting may end early if all business is completed.

Dated: February 13, 2009.
Victor Knox,
Deputy Regional Director.

[FR Doc. E9-7282 Filed 3-31-09; 8:45 am]

BILLING CODE 4312-HK-P